DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of August, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,040; Chambersburg Engineering Co., Chambersburg, PA

TA-W-41,403; Tyco Electronics Corp., Lickdale Plant, Jonestown, PA

TA-W-41,555; Usibelli Coal Mine, Inc., Healy, AK

TA-W-41,604; Benchmark electronics (AVEX), Pulaski, TN

TA-W-41,536; Solectron Texas, Inc., A Subsidiary of Solectron Corp., Austin, TX

TA-W-41,602; Diversified Tool Corp., Cambridge Springs, PA

In the following cases, the investigation revealed that the criteria for eligibility have not been met for the reasons specified.

Increased imports did not contribute importantly to worker separations at the firm.

TA-W-41,603; Tredegar Film Products, A Division of Tredegar Corp, Tacoma, WA

TA-W-41,653; La-Z-Boy East, Florence, SC

TA-W-41,619; UBE Automotive North America Mason Plant, Inc., Mason, OH

TA-W-41,432; Lucent Technologies, OFS Fitel, Sturbridge, MA

TA-W-41,683; International Comfort Products Corp (USA), Lewisburg, TN

TA-W-41,607; Deer and Co Construction and Forestry Div., John Deere Commercial Worksite Products, Loudon, TN

The workers firm does not produce an article as required for certification under Section 222 of the Trade Act of 1974.

TA-W-41,737; Severn Trent Services, Inc., Environmental Service Group, Fieldale, VA

TA-W-41,693; Great Lakes Fleet, Inc. a Wholly Owned Subsidiary of Great Lakes Transportation, LLC, Duluth, MN

TA-W-41,518; United Electric Co., Virginia, MN

TA-W-41,634; Ansell Protective Products A Subsidiary of Ansell Healthcare Int'l Science and Technology Dept, Coshocton, OH

TA-W-41,626; Sitel Corp., Longview, TS

The investigation revealed that criteria (2) has not been met. Sales of production did not decline during the relevant period as required for certification.

TA-W-41,969; New River Energetics Alliant Techsystems, Inc., Radford, VA

The investigation revealed that criteria (2) and criteria (3) have not been met. Sales of production did not decline during the relevant period as required for certification.

TA-W-41,704; LTV Tubular Product Co., Marion, OH

Affirmative Determinations for Worker Adjustment Assistance

The following certifications have been issued; the date following the company name and location of each determination references the impact date for all workers of such determination.

TA-W-41,499; Sanford, North America, LP, Newell Rubbermaid Corp., Santa Monica, CA: April 18, 2001.

TA-W-41,417; Flexprint, A Subsidiary of Flexpaq, Moorestown, NJ: March 29, 2001.

TA-W-41,390; Sumitomo Mitsubishi Silicon Corp., a/k/a Sumco USA, Salem, OR: March 16, 2001.

TA-W-41,552; Southtech, Inc., Tappahannock, VA: April 29, 2001.

TA-W-41,612; J.R. Simplot Co., Food Group, Heyburn, ID: May 9, 2001.

TA-W-41,690; Peterson-Kruse, Inc., Rockford, IL: June 4, 2001.

TA-W-41,697; Silver Furniture Manufacturing Co., Inc., A Wholly Owned Subsidiary of Silver Furniture Co., Inc., A Wholly Owned Subsidiary of Chromcraft Revington Co., Inc., Knoxville, TN: June 6, 2001.

TA-W-41,698; Volant Ski Co., LLC, a/k/a Volant Sports, LLC, Wheat Ridge, CO: June 24, 2001.

TA-W-41,685; Dana Corp., Coupled Products Div., Columbia City, IN: June 10, 2001.

TA-W-41,689; Volunteer Knit Apparel, Inc., Rutledge, TN: June 11, 2001.

TA-W-41,675; Great Lakes Chemical Corp., Newport, TN: May 18, 2001.

TA-W-41,679; Newsouth Apparel, LLC, Brewton, AL: June 7, 2001.

TA-W-41,682; Canon Business Machines, Inc., A Subsidiary of Canon U.S.A., Inc., & Canon, Inc., Costa Mesa, CA: May 14, 2001.

TA-W-41,649; Calumet Steel Co., Chicago Heights, IL: May 24, 2001.

TA-W-41,659; Louisiana Uniform Industries, A Subsidiary of Superior Uniform Group, Inc., Delhi, LA: May 17, 2001

TA-W-41,662; Cerro Copper Products, Sauget, IL: May 7, 2001.

TA-W-41,620; Atofina Chemicals, Inc., Wichita, KS: May 13, 2001.

TA-W-41,627; Moltrup Steel Products Co., Beaver Falls, PA: May 17, 2001.

TA-W-41,629; Standard Steel Burnham, PA: May 22, 2001.

TA-W-40,895; Oshio Oregon, Inc., Newberg, OR: October 22, 2000.

TA-W-41,269; Victoria Vogue, Inc., Bethlehem, PA: March 7, 2001.

TA-W-41,334; Metaldyne Corp., Formerly Known as Simpson Industries, Inc., Troy, OH: December 8, 2001.

TA-W-41,469; Telect, Liberty Lake, WA: April 16, 2001.

TA-W-41,520; U.S. Manufacturing Co., Pasadena, CA: April 4, 2001.

TA-W-41,524; American Candy Co., Lebanon, TN: October 31, 2000.

TA-W-41,670; Burlington House, Burlington House Div. Office, Greensboro, NC and A; Graham Plant, Graham, NC, B; Pioneer Plant, Burlington, NC, C; Williamsburg Plant, Matkins, NC, D; Sheffield Plant, Rocky Mount, NC, E; Burlington House Div. Manufacturing Offices, Burlington, NC, F; Burlington Consumer Products Div., Reidsville, NC, G; Reidsville Drapery Plant, Reidsville, NC: May 22, 2001. and H; Stokesdale Plant, Stokesdale, NC: October 13, 2002.

Also, pursuant to Title V of the North American Free Trade Agreement Implementation Act (Pub. L. 103-182) concerning transitional adjustment assistance hereinafter called (NAFTA-TAA) and in accordance with Section 250(a), Subchaper D, Chapter 2, Title II, of the Trade Act as amended, the Department of Labor presents summaries of determinations regarding eligibility to apply for NAFTA-TAA issued during the months of August, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06060; Sumitomo Mitsubishi Silicon Corp., a/k/a Sumco USA, Salem, OR

NAFTA-TAA-06133; Dekko Engineering, Manitowoc, WI

NAFTA-TAA-06144; Monona Wire Corp., Edgewood Plant, Edgewood, IA

NAFTA-TAA-06155; Tyco Electronics Corp., Lickdale Plant, Jonestown, PA

NAFTA-TAA-06213; Diversified Tool Corp., Cambridge Springs, PA

NAFTA-TAA-05464; Harvard Industries, Inc., Jackson, MI

NAFTA-TAA-06075; Lockheed Martin, Distribution Technologies, Inc., Tulsa, OK

NAFTA-TAA-06162; Ponderosa Pulp Products, Oshkosh, WI

NAFTA-TAA-06203; Specialty Minerals (Michigan), Inc., SMI-Plainwell Div., Plainwell, MI

NAFTA-TAA-06233; Moltrup Steel Products Co., Beaver Falls, PA

NAFTA-TAA-06280; Intermix Distributors, Inc. (d/ba Intermix Foods, El Paso, TX

NAFTA-TAA-06281; Agrilink Foods, Pickle Plant, Tacoma, WA

NAFTA-TAA-06287; Olson Technologies, Inc., Allentown, PA

NAFTA-TAA-06318; UBE Automotive North America Mason Plant, Inc., Mason, OH

NAFTA-TAA-06326; Schneider Electric/Square D Company, Monroe, NC

The investigation revealed that the criteria for eligibility have not been met for the reasons specified.

The investigation revealed that workers of the subject firm did not produce an article within the meaning of Section 250(a) of the Trade Act, as amended.

NAFTA-TAA-06368; Penske Truck Leasing, St. Louis Administration Center, Chesterfield, MO

NAFTA-TAA-06339; Maxxim Medical, Inc., Asheville NC Div., Asheville, NC

NAFTA-TAA-06296; Great Lakes Fleet, Inc., A Wholly Owned Subsidiary of Great Lakes Transportation, LLC, Duluth, MN

NAFTA-TAA-06154; Enterasys Networks, Inc., Salt Lake City, UT

NAFTA-TAA-06147; Electronic Data Systems (EDS), Winchester, KY

The investigation revealed that criteria (2) has not been met. Sales or production did not decline during the relevant period as required for certification.

NAFTA-TAA-06476; New River Energetics, Alliant Techsystems, Inc. (ATK), Radford, VA

Affirmative Determinations NAFTA-TAA

NAFTA-TAA-06130; Corning, Inc., Photonic Technologies/Monroe Photonic Park, West Henrietta, NY: November 15, 2000.

NAFTA-TAA-06190; Sanford, North America, LP, Newwell Rubbermaid Corp., Santa Monica, CA: April 18, 2001.

NAFTA-TAA-06215; J.R. Simplot Co., Food Group, Heyburn, ID: May 15, 2001.

NAFTA-TAA-06316; Andrew Corp., Formerly Micro Pulse, Inc., Wireless Products Div., Camarillo, CA: June 18, 2001.

NAFTA-TAA-06319; General Cable Industries, Inc., Monticello, IL: June 18, 2001.

NAFTA-TAA-06328; A.O. Smith, Electrical Products Co., Upper Sandusky, OH: April 9, 2001.

NAFTA-TAA-06180; Jay Manufacturing, Div. Of Sunrise Medical, Inc., including Leased Workers of Staffing Solutions and Corestaff, Longmont, CO: “All workers engaged in the production of gel-filled cushions for wheelchairs who became totally or partially separated from employment on or after May 13, 2001.

NAFTA-TAA-06234; Scotty's Fashions of Lehighton, Inc., Lehighton, PA: May 25, 2001.

NAFTA-TAA-06239; Square D Co., Schneider Electric, Oxford, OH: April 29, 2001.

NAFTA-TAA-06253; Calumet Steel Co., Chicago Heights, IL: May 24, 2001.

NAFTA-TAA-06268; Ilsco Corp., Kentucky Connector Corp., Glasgow, KY: May 20, 2001.

NAFTA-TAA-06282; Glen Oaks Industries, Inc., Marietta Sportswear Mfg Co., Inc., Dallas, TX: June 13, 2001.

NAFTA-TAA-06355; Donaldson Co., Inc., Baldwin, WI: July 15, 2001.

NAFTA-TAA-06236; Burlington House, Burlington House Div. Offices, Greensboro, NC, A; Graham Plant, Graham, NC, B; Pioneer Plant, Burlington, NC, C: Williamsburg Plant, Matkins, NC, D; Sheffield Plant, Rock Mount, NC, E; Burlington House Div. Manufacturing Offices, Burlington, NC, F; Burlington Consumer Products Div., Reidsville, NC, G; Reidsville Drapery Plant, Reidsville, NC: May 31, 2001 and H; Stokesdale Plant, Stokesdale, NC: October 31, 2002.

NAFTA-TAA-06315; Kenworth Truck Co., A Div, of PACCAR, Inc., Fabrication Department, Seattle, WA: April 9, 2001.

NAFTA-TAA-06358; Dana Corp., Coupled Products Div., Columbia City, IN: June 6, 2001.

I hereby certify that the aforementioned determinations were issued during the months of August, 2002. Copies of these determinations are available for inspection in Room C-5311, U.S. Department of Labor, 200 Constitution Avenue, NW., Washington, DC 20210 during normal business hours or will be mailed to persons who write to the above address.

Dated: August 28, 2002.
Edward A. Tomchick,
Director, Division of Trade Adjustment Assistance.

[FR Doc. 02-22966 Filed 9-9-02; 8:45 am]

BILLING CODE 4510-30-P